DEPARTMENT OF STATE

22 CFR Part 196

[Public Notice 4077]

The Thomas R. Pickering Foreign Affairs/Graduate Foreign Affairs Fellowship Program and Grants to Post-Secondary Institutions

AGENCY: Department of State.

ACTION: Final rule.

SUMMARY: This document establishes the rule by which the Department of State's Thomas R. Pickering Foreign Affairs/Graduate Foreign Affairs Fellowship program will be administered. The State Department Basic Authorities Act states that the Department shall establish regulations which will provide for a limit on the size of any specific grant and, regarding any grant to individuals, shall ensure no grant recipient receives grants from one or more Federal programs which in the aggregate would exceed the cost of his or her educational expenses and shall require satisfactory educational progress by grantees as a condition of eligibility for continued participation in the program. This rule will facilitate the recruitment of a talented and diverse group of students into the Foreign Service.

EFFECTIVE DATE: October 31, 2002.

FOR FURTHER INFORMATION CONTACT: Richard Esper, Office of Recruitment/Student Programs at (202) 261-8924.

SUPPLEMENTARY INFORMATION: The Thomas R. Pickering Foreign Affairs/Graduate Foreign Affairs Fellowship Program was established to recruit a talented and diverse group of students into the Foreign Service. The State Department Basic Authorities Act (22 U.S.C. 2719) authorizes the Secretary of State to make grants to post-secondary education institutions or students for the purpose of increasing the level of knowledge and awareness of and interest in employment with the Foreign Service. The program provides scholarships to undergraduate and graduate students in academic programs relevant to international affairs, political and economic analysis, administration, management and science policy. While in school, Fellows participate in one domestic and one overseas internship within the U.S. Department of State. After completing their academic training, and successfully passing the Foreign Service entry requirements, Fellows will enter the U.S. Department of State Foreign Service as Foreign Service Officers. Consideration is given to all qualified applicants who, in addition to outstanding leadership skills and academic achievement, demonstrate financial need. The number of fellowships awarded is determined by available funding.

Regulatory Findings

Administrative Procedure Act

The Department is publishing this rule as a final rule after it was published as a proposed rule on January 11, 2002 (67 FR 1420). No comments were received regarding the final rule.

Regulatory Flexibility Act

The Department of State, in accordance with the Regulatory Flexibility Act (5 U.S.C. 605(b)), has reviewed this regulation and, by approving it, certifies that this rule will not have a significant economic impact on a substantial number of small entities.

Unfunded Mandates Act of 1995

This rule will not result in the expenditure by State, local and tribal governments, in the aggregate, or by the private sector, of $1 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign based companies in domestic and import markets.

Executive Order 12866

The Department of State does not consider this rule to be a “significant regulatory action” under Executive Order 12866, section 3(f), Regulatory Planning and Review. In addition, the Department is exempt from Executive Order 12866 except to the extent that it is promulgating regulations in conjunction with a domestic agency that are significant regulatory actions. The Department has nevertheless reviewed the regulation to ensure its consistency with the regulatory philosophy and principles set forth in that Executive Order.

Executive Order 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

The reporting or recordkeeping action required from the public under the rule requires the approval of the Office of Management and Budget under the Paperwork Reduction Act. A Fellowship application form was forwarded to OMB as required. The Pickering Fellowship application form number is: DS-3091 and the number of the collection is: OMB #1405-0143.

List of Subjects in 22 CFR Part 196

Education, Educational study programs, Grant programs—education, Grant programs—foreign affairs, Reporting and recordkeeping requirements, Scholarships and fellowships, Students.

For the reasons discussed in the preamble, the U.S. Department of State amends 22 CFR chapter I by adding part 196 to read as follows:

PART 196—THOMAS R. PICKERING FOREIGN AFFAIRS/GRADUATE FOREIGN AFFAIRS FELLOWSHIP PROGRAM

Sec.
196.1 What is the Fellowship Program?
196.2 How is the Fellowship Program administered?
196.3 Grants to post-secondary education institutions.
196.4 Administering Office.

Authority: 22 U.S.C. 2719.

§ 196.1 What is the Fellowship Program?

The Thomas R. Pickering Foreign Affairs/Graduate Foreign Affairs Fellowship Program is designed to attract outstanding men and women at the undergraduate and graduate educational levels for the purpose of increasing the level of knowledge and awareness of and employment with the Foreign Service, consistent with 22 U.S.C. 3905. The Program develops a source of trained men and women, from academic disciplines representing the skill needs of the Department, who are dedicated to representing the United States' interests abroad.

§ 196.2 How is the Fellowship Program administered?

(a) Eligibility. Eligibility will be determined annually by the Department of State and publicized nationwide. Fellows must be United States citizens.

(b) Provisions. The grant awarded to each individual student shall not exceed $250,000 for the total amount of time the student is in the program. Fellows are prohibited from receiving grants from one or more Federal programs, which in the aggregate would exceed the cost of his or her educational expenses. Continued eligibility for participation is contingent upon the Fellow's ability to meet the educational requirements set forth in paragraph (c) of this section.

(c) Program requirements. Eligibility for participation in the program is conditional upon successful completion of pre-employment processing specified by the Department of State, including background investigation, medical examination, and drug testing. As a condition of eligibility for continued receipt of grant funds, fellows are required to complete prescribed coursework and maintain a satisfactory grade point average as determined by the Department of State. Fellows are also required to accept employment with the Department of State's Foreign Service upon successful completion of the program, and Foreign Service entry requirements. Fellows must continue employment for a period of one and one-half years for each year of education funded by the Department of State.

§ 196.3 Grants to post-secondary education institutions.

The Department of State may make a grant to a post-secondary education institution for the purpose of increasing the level of knowledge and awareness of and interest in employment with the Foreign Service, consistent with 22 U.S.C. 3905, not to exceed $1,000,000, unless otherwise authorized by law.

§ 196.4 Administering office.

The Department of State's Bureau of Human Resources, Office of Recruitment is responsible for administering the Thomas R. Pickering Foreign Affairs/Graduate Foreign Affairs Fellowship Program and grants to post-secondary institutions and may be contacted for more detailed information.

Dated: July 17, 2002.
Ruben Torres,
Executive Director, Bureau of Human Resources, Department of State.

[FR Doc. 02-19449 Filed 8-5-02; 8:45 am]

BILLING CODE 4710-15-P